DEPARTMENT OF ENERGY

Federal Energy Regulatory Commission

Notice of Transfer of Licenses and Solicitation of Comments

April 26, 2002.

Take notice that the following hydroelectric applications have been filed with the Commission and are available for public inspection:

a. Application Type: Transfer of Licenses.

b. Project Nos: 10822-003, 10823-003, 11143-013, 11168-012, and 11547-009.

c. Date Filed: April 15, 2002.

d. Applicants: Summit Hydropower and Summit Hydropower, Inc. (transferors) and Summit Hydro, LLC and Glen Falls Hydro, LLC (transferees).

e. Project Names and Locations: The Collinsville Upper and Lower Projects are on the Farmington River in Hartford County, Connecticut. The Glen Falls Project is on the Moosup River, the Dayville Pond Project is on the Five Mile River, and the Hale Project is on the Quinebaug River, all in Windham County, Connecticut. The projects do not occupy federal or tribal lands.

f. Filed Pursuant to: Federal Power Act, 16 U.S.C. 791(a)—825(r)).

g. Applicant Contact: Duncan S. Broatch, Summit Hydro, LLC, 67 May Brook, Woodstock, CT 06281, (860) 928-1978.

h. FERC Contact: James Hunter, (202) 219-2839.

i. Deadline for filing comments, protests, and interventions: May 29, 2002.

All documents (original and eight copies) should be filed with: Magalie Roman Salas, Secretary, Federal Energy Regulatory Commission, 888 First Street, NE., Washington, DC 20426. Comments, protests, and interventions may be filed electronically via the internet in lieu of paper. See 18 CFR 385.2001(a)(1)(iii) and the instructions on the Commission's web site under the “e-Filing” link.

Please include the noted project numbers on any comments or motions filed.

j. Description of Proposal: The Applicants request approval for transfer of the licenses for Project Nos. 10822, 10823, 11168, and 11547 from Summit Hydropower to Summit Hydro, LLC and of the license for Project No. 11143 from Summit Hydropower to Glen Falls Hydro, LLC, in connection with the proposed reorganization of the licensee.

All five licenses were issued to “Summit Hydropower,” a partnership. However, on March 3, 1993, the partners formed Summit Hydropower, Inc. in place of the partnership, and the corporation then acquired all of the partnership's assets. As the licenses for Project Nos. 11143 and 11168 had been issued prior to March 3, 1993, the transfer applications for those two projects will also be considered requests for after-the-fact approval of the transfers that resulted from the partnership-to-corporation change. The remaining licenses were erroneously issued in the partnership's name after March 3, 1993.

k. Copies of this filing are on file with the Commission and are available for public inspection. This filing may also be viewed on the web at http://www.ferc.gov using the “RIMS” link, select “Docket#” and follow the instructions. (Call (202) 208-2222 for assistance). A copy is also available for inspection and reproduction at the address in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 02-10864 Filed 5-1-02; 8:45 am]

BILLING CODE 6717-01-P